DEPARTMENT OF HEALTH AND HUMAN SERVICES

Office of the Secretary

[Document Identifier: HHS-OS-0990-new-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before September 22, 2016.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the document identifier HHS-OS-0990-new-30D for reference.

Information Collection Request Title: Federal Evaluation of Making Proud Choices! (MPC!).

Abstract: The Office of Adolescent Health (OAH), U.S. Department of Health and Human Services (HHS) is requesting approval by OMB for a new data collection. The Federal Evaluation of Making Proud Choices! (MPC!) will provide information about program design, implementation, and impacts through a rigorous assessment of a highly popular teen pregnancy prevention curriculum—MPC; it includes the baseline survey instrument related to the impact study and instruments for the implementation and fidelity assessment. The evaluation will be conducted in 39 schools nationwide. The data collected from these instruments will be used to describe the characteristics of the study sample of youth, be used in the models for estimating program impacts, and will provide a detailed understanding of program implementation.

Need and Proposed Use of the Information: The baseline survey data will be used to describe the study sample and to assess whether random assignment successfully generated treatment and control groups balanced on important baseline characteristics. The findings from these analyses of program impacts and implementation will be of interest to the general public, to policymakers, and to schools and other organizations interested in supporting a comprehensive approach to teen pregnancy prevention. Likely Respondents: The baseline survey will be collected through a Web based survey with study participants in the participating evaluation schools. Study participants will primarily be in 8th or 9th grade at the time of the baseline survey, and will be enrolled in the schools' mandatory health class.

Burden Statement: The total annual burden hours estimated for this ICR are summarized in the table below.

Total Estimated Annualized Burden—Hours
Form name | Number of respondents | Number of responses per respondent | Average burden per response (in hours) | Total burden hours
Baseline survey of impact study participants | 865 | 1 | 30/60 | 432.5
Master topic guide for staff interviews | 39 | 1 | 1 | 39
Staff survey | 26 | 1 | 30/60 | 13
Program attendance data and collection protocol | 13 | 14 | 9/60 | 27.3
Program fidelity checklist | 9 | 14 | 15/60 | 31.5
Youth focus group | 87 | 1 | 1 | 87
Total |  |  |  | 630.3

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Terry S. Clark,
Asst Information Collection Clearance Officer.

[FR Doc. 2016-20136 Filed 8-22-16; 8:45 am]

BILLING CODE 4168-11-P